ENVIRONMENTAL PROTECTION AGENCY

40 CFR Part 52

[EPA-R05-OAR-2007-1177; FRL-8542-5]

Approval and Promulgation of Air Quality Implementation Plans; Indiana; Revisions to Particulate Matter Rules

AGENCY: Environmental Protection Agency (EPA).

ACTION: Proposed rule.

SUMMARY: On November 27, 2007, Indiana submitted draft revisions to its particulate matter State Implementation Plan (SIP) for sources in Clark, Dearborn, Dubois, Howard, Lake, Marion, St. Joseph, Vanderburgh, Vigo, and Wayne Counties. Indiana supplemented its submittal with a public hearing transcript and additional technical support documents on December 3, 2007, and submitted final, fully adopted revised rules on February 21, 2008. This SIP revision updates facility names, revises formatting, removes sources no longer in operation, and revises some emission limits. Where emission limits increase, the State has included air quality modeling analyses that demonstrate that air quality will continue to be protected. EPA is proposing to approve this SIP revision request.

DATES: Comments must be received on or before April 14, 2008.

ADDRESSES: Submit your comments, identified by Docket ID No. EPA-R05-OAR-2007-1177, by one of the following methods:

1. http://www.regulations.gov: Follow the on-line instructions for submitting comments.

2. E-mail: Rosenthal.steven@epa.gov.

3. Fax: (312) 886-5824.

4. Mail: Steven Rosenthal, Acting Chief, Criteria Pollutant Section, Air Programs Branch (AR-18J), U.S. Environmental Protection Agency, 77 West Jackson Boulevard, Chicago, Illinois 60604.

5. Hand Delivery: Steven Rosenthal, Acting Chief, Criteria Pollutant Section, Air Programs Branch (AR-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m. excluding Federal holidays.

Instructions: Direct your comments to Docket ID No. EPA-R05-OAR-2007-1177. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional instructions on submitting comments, go to Section I of the SUPPLEMENTARY INFORMATION section of this document.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Environmental Protection Agency, Region 5, Air and Radiation Division, 77 West Jackson Boulevard, Chicago, Illinois 60604. This Facility is open from 8:30 a.m. to 4:30 p.m., Monday through Friday, excluding legal holidays. We recommend that you telephone Mary Portanova at (312) 353-5954 before visiting the Region 5 office.

FOR FURTHER INFORMATION CONTACT: Mary Portanova, Environmental Engineer, Criteria Pollutant Section, Air Programs Branch (AR-18J), Environmental Protection Agency, Region 5, 77 West Jackson Boulevard, Chicago, Illinois 60604, (312) 353-5954, portanova.mary@epa.gov.

SUPPLEMENTARY INFORMATION: Throughout this document whenever “we,” “us,” or “our” is used, we mean EPA. This supplementary information section is arranged as follows:

I. What should I consider as I prepare my comments for EPA?

II. Background

III. What has Indiana revised in 326 IAC 6.5?

a. Clark County

b. Dearborn County

c. Dubois County

d. Howard County

e. Marion County

f. St. Joseph County

g. Vanderburgh County

h. Vigo County

i. Wayne County

IV. What has Indiana revised in 326 IAC 6.8 (Lake County)?

V. PM10 Modeling Analyses

a. Clark County

b. Dubois County

c. Marion County

d. St. Joseph County

e. Lake County

VI. What action is EPA taking today?

VII. Statutory and Executive Order Reviews.

I. What should I consider as I prepare my comments for EPA?

When submitting comments, remember to:

1. Identify the rulemaking by docket number and other identifying information (subject heading, Federal Register date and page number).

2. Follow directions—The EPA may ask you to respond to specific questions or organize comments by referencing a Code of Federal Regulations (CFR) part or section number.

3. Explain why you agree or disagree; suggest alternatives and substitute language for your requested changes.

4. Describe any assumptions and provide any technical information and/or data that you used.

5. If you estimate potential costs or burdens, explain how you arrived at your estimate in sufficient detail to allow for it to be reproduced.

6. Provide specific examples to illustrate your concerns, and suggest alternatives.

7. Explain your views as clearly as possible, avoiding the use of profanity or personal threats.

8. Make sure to submit your comments by the comment period deadline identified.

II. Background

On November 27, 2007, Indiana submitted to EPA draft revised rules for parallel processing as revisions to the Indiana SIP for particulate matter, measured as particles with an aerodynamic diameter less than or equal to ten microns in diameter (PM10). Indiana provided additional materials, dated December 3, 2007, in an addendum to the November 27, 2007 submittal. Indiana submitted final, fully adopted revised PM10 rules on February 21, 2008.

Indiana's submittal consists of revisions to 326 Indiana Administrative Code (IAC) 6.5, Particulate Matter Emission Limitations Except Lake County; and 326 IAC 6.8, Particulate Matter Emission Limitations For Lake County. The revised rules include a variety of changes to Indiana's Federally approved PM10 SIP rules, such as: Updates to affected facilities' names or emission source identifiers; rule formatting revisions which have no effect on numerical emission limits; the removal of emission limits for individual emission units which no longer exist or operate; and the removal of rules for entire facilities which no longer exist or which no longer operate the PM10 sources that were listed in the previous PM10 SIP. Indiana has increased some PM10 emission limits for sources in Clark, Dubois, Marion, St. Joseph, and Lake Counties. Indiana has also tightened PM10 emission limits at several sources.

In addition, Indiana has relocated the opacity limits and natural gas combustion-only restrictions for its Lake County sources to the facility-specific sections of the rule. The PM10 limits and any opacity limits and natural gas-only restrictions for each facility are now grouped in a single section.

III.What has Indiana revised in 326 IAC 6.5?

Rule 326 IAC 6.5-1, General Provisions, has not changed. The facility-specific PM10 emission limits for Clark, Dearborn, Dubois, Howard, Marion, St. Joseph, Vanderburgh, Vigo, and Wayne Counties, given in 326 IAC 6.5-2 through 326 IAC 6.5-10, have been updated and revised, as discussed below.

a. Clark County

There were eight facilities listed in the previously approved SIP for Clark County whose entries have been removed from 326 IAC 6.5-2, due to company shutdowns or the removal of all PM10 emitting units. The eight facilities are: B & E Asphalt (326 IAC 6.5-2-2); Colgate Palmolive (326 IAC 6.5-2-3); Gohman Asphalt (326 IAC 6.5-2-5); Hillerich and Bradsby (326 IAC 6.5-2-6); Hooker Chemical (326 IAC 6.5-2-7); Quality Paving (326 IAC 6.5-2-10); Robinson Foundry (326 IAC 6.5-2-11); and USS Agri Chemicals (326 IAC 6.5-2-12).

The numerical PM10 emission limits for Essroc Cement Corporation, formerly Essroc Materials (326 IAC 6.5-2-4), in Clark County are unchanged from the previously approved SIP. Their entry in 326 IAC 6.5-2 was only edited for format consistency and the updated facility name.

The new rule removed the emission limits for the five million British Thermal Units per hour (MMBtu/hr) gas-oil boiler at PQ Corporation (326 IAC 6.5-2-9) in Clark County. That boiler is no longer operating.

The previous entry for Kimball Office—Borden, formerly Kimball Case Goods (326 IAC 6.5-2-8), listed one oil-fired boiler rated at 6 MMBtu/hr. The revised rule lists two boilers, rated at 6.7 MMBtu/hr each, restricted to No. 2 fuel oil. The original PM10 emission limits of 0.3 tons per year (tpy) and 0.0130 pounds per million British Thermal Units (lb/MMBtu) are unchanged. The listed emission limits now apply to each boiler. Considering the higher boiler rating of 6.7 MMBtu/hr as well, this represents an increase in allowable SIP emissions of approximately 2.3 pounds per day. It should be noted that the final revised rule inadvertently listed the lb/MMBtu limit in units of gr/dscf. Indiana is preparing to publish a correction notice in the Indiana Register to remedy the error and list the Kimball Office—Borden emission limit as 0.0130 lb/MMBtu. Indiana performed dispersion modeling to show that these emission limit increases would be protective of the PM10 NAAQS. See Section V for a discussion of the State's modeling analysis.

b. Dearborn County

There were two facilities listed in the previously approved SIP for Dearborn County whose entries have been removed from 326 IAC 6.5-3, due to company shutdowns or the removal of all PM10 emitting units. The two facilities are Lotus Ware House (326 IAC 6.5-3-6) and Schenley Distillers, Incorporated (326 IAC 6.5-3-9).

The numerical PM10 emission limits for five facilities in Dearborn County are unchanged from the previously approved SIP. Their entries in 326 IAC 6.5-3 were only edited for format consistency or name changes. The five facilities are: Anchor Glass Container Corporation, formerly Anchor Glass (326 IAC 6.5-3-2); Dearborn Ready Mix, LLC, formerly Dearborn Gravel (326 IAC 6.5-3-3); Indiana Michigan Power, Tanners Creek Plant (326 IAC 6.5-3-4); Laughery Gravel (326 IAC 6.5-3-5); and Paul H. Rohe Company, Inc. (326 IAC 6.5-3-7).

For Lawrenceburg Distillers Indiana, LLC, formerly Joseph E. Seagram and Sons, Inc. (326 IAC 6.5-3-8) in Dearborn County, the reference to Boiler 5 has been removed, because it is no longer operating. The remaining emission limits for this facility were not changed.

c. Dubois County

There were seven facilities listed in the previously approved SIP for Dubois County whose entries have been removed from 326 IAC 6.5-4, due to company shutdowns or the removal of all PM10-emitting units. The seven facilities are: Hoosier Desk (326 IAC 6.5-4-7); Indiana Furniture Industries (326 IAC 6.5-4-11); Jasper Cabinet No. 1 (326 IAC 6.5-4-12); Jasper Cabinet No. 2 (326 IAC 6.5-4-13); Jasper Cabinets Corporation (326 IAC 6.5-4-14); Jasper Veneer (326 IAC 6.5-4-22); and Jasper Wood Products (326 IAC 6.5-4-23).

The numerical PM10 emission limits for ten facilities in Dubois County are unchanged from the previously approved SIP. Their entries in 326 IAC 6.5-4 were only edited for format consistency or name changes. The ten facilities are: Kimball Office—Jasper 15th Street, formerly Artec (326 IAC 6.5-4-2); DMI Furniture Plant No. 5, formerly Dolly Madison Plant No. 5 (326 IAC 6.5-4-4); Dubois County Farm Bureau Co-op (326 IAC 6.5-4-5); Forest Products No. 1 (326 IAC 6.5-4-6); Indiana Desk Company (326 IAC 6.5-4-9); Jasper Desk Company, Incorporated (326 IAC 6.5-4-16); Kimball Office—Jasper Cherry Street, formerly Jasper Laminates, Plant #1—Division of Kimball (326 IAC 6.5-4-17); Jasper Municipal Electric Utility (326 IAC 6.5-4-18); Jasper Seating (326 IAC 6.5-4-21); and Styline Industries, Inc. Plant #8 (326 IAC 6.5-4-24).

The revised rule does not change the previous PM10 emission limits for Indiana Dimension, Indiana Furniture Industries, formerly Indiana Dimension (326 IAC 6.5-4-10). However, the revised rule adds a wood working-dust collector emission limit of 0.4 tons per year. This emission unit was previously listed in the Indiana PM10 SIP at 326 IAC 6.5-4-8, in the entry for Indiana Chair. The Indiana Chair facility has not moved, but it is now part of Indiana Dimension, Indiana Furniture Industries, and its PM10 emission limits have been added to 326 IAC 6.5-4-10. The listing at 326 IAC 6.5-4-8 for Indiana Chair has been removed from the SIP.

The revised rule does not change the previous PM10 emission limits for JOFCO Inc. Plants 1 and 2, formerly Jasper Office Furniture Co., Inc., Plant #1 (326 IAC 6.5-4-19) in Dubois County. However, the revised rule adds an emission limit of 1.2 tons per year for wood working. This PM10 emission source and emission limit were previously listed in the Indiana PM10 SIP at 326 IAC 6.5-4-20, in a separate entry for Jasper Office Furniture. The Jasper Office Furniture facility has not moved, but it is now part of JOFCO, Inc., and its PM10 emission limits have been added to 326 IAC 6.5-4-19. The listing at 326 IAC 6.5-4-20 for Jasper Office Furniture has been removed from the SIP.

For Jasper Seating Co., Inc., Plant No. 3, formerly Dolly Madison Plant No. 4 (326 IAC 6.5-4-3), the rating for the wood-fired boiler has been corrected from 5 MMBtu/hr to 10.5 MMBtu/hr. The emission limits of 9.4 tpy and 0.60 lbs/MMBtu have not changed.

For Jasper Chair Company, Inc. (326 IAC 6.5-4-15), the rating for the wood boiler has been corrected from 18 MMBtu/hr to 18.3 MMBtu/hr. The annual emission limit for that boiler increased from 15.6 tpy to 15.77 tpy, while the short-term limit of 0.60 lb/MMBtu remained the same. The emission limit for wood working operations at this facility is unchanged.

Indiana performed dispersion modeling to show that the emission increases at Jasper Seating Co., Inc. and Jasper Chair Company, Inc. would be protective of the PM10 NAAQS. See Section V for a discussion of the State's modeling analysis.

d. Howard County

There were nine facilities listed in the previously approved SIP for Howard County whose entries have been removed from 326 IAC 6.5-5, due to company shutdowns or the removal of all PM10 emitting units. The nine facilities are: Cuneo Press (326 IAC 6.5-5-3); Greentown Grain (326 IAC 6.5-5-6); Howard Co. Farm Bureau Co-op (Greentown) (326 IAC 6.5-5-7); Howard Co. Farm Bureau Co-op (Russiaville) (326 IAC 6.5-5-8); Judson Feed & Grain (326 IAC 6.5-5-9); Name, Inc. (326 IAC 6.5-5-12); Penn-Dixie; boilers (326 IAC 6.5-5-13); Penn-Dixie; furnaces (326 IAC 6.5-5-14), and Russiaville Feed & Grain (326 IAC 6.5-5-15).

The numerical PM10 emission limits for three facilities in Howard County are unchanged from the previously approved SIP. Their entries in 326 IAC 6.5-5 were only edited for format consistency or name changes. The three facilities are: Kokomo Grain Company (326 IAC 6.5-5-10); E & B Paving, Inc., formerly Mohr Construction (326 IAC 6.5-5-11); and Martin Marietta Materials, Inc., formerly Yeomen Stone & Sand (326 IAC 6.5-5-16).

The new rule removes the entry for two gas-fired boilers, Stack 2, at Delco Electronics Corporation, formerly Delphi Delco (326 IAC 6.5-5-5). The boilers are no longer operating. The remainder of 326 IAC 6.5-5-5 is unchanged.

For Chrysler, LLC-Kokomo Casting Plant and Kokomo Transmission Plant, formerly Chrysler-Haynes (326 IAC 6.5-5-2) in Howard County, the entries for Reverberatory Furnaces D and E, both 92.5 tons per year, and Gas Boiler 3, have been removed, because the units are no longer operating. The revised rule adds a listing for Boiler 5, restricted to natural gas only, and an emission limit of .75 lb/MMBtu for Boiler 4 at the Chrysler, LLC-Kokomo Transmission Plant. Boiler 4 burns reclaimed residual oil or natural gas. Boilers 4 and 5 were previously listed in the Indiana PM10 SIP at 326 IAC 6.5-5-4, in a separate entry for DaimlerChrysler-U.S. 31. The two boilers, along with Boilers 1, 2, and 3 at the same facility, each had emission limits of 0.75 lb/MMBtu and shared an overall limit of 875.7 tpy in 326 IAC 6.5-5-4. The DaimlerChrysler-U.S. 31 facility, now known as the Chrysler, LLC-Kokomo Transmission Plant, has not moved, but its PM10 emission limits have been included in 326 IAC 6.5-5-2. Boilers 1, 2, and 3 have been shut down and demolished. Boiler 4 retains its original limit of 0.75 lb/MMBtu with no tons-per-year limit. The listing at 326 IAC 6.5-5-4 for DaimlerChrysler-U.S. 31 has been removed from the SIP.

e. Marion County

The revised rule no longer contains 6.5-6-1(b), which provided that “sources shall be considered in compliance with the tons per year emission limits established in sections 2 through 36 of this rule if within five percent (5%) of the emission limit.” The removal of this provision strengthens the SIP.

There were twenty-one facilities listed in the previously approved SIP for Marion County whose entries have been removed from 326 IAC 6.5-6, due to company shutdowns or the removal of all PM10-emitting units. The 21 facilities are: Bridgeport Brass (326 IAC 6.5-6-4); Central State Hospital (326 IAC 6.5-6-6); Chevrolet (326 IAC 6.5-6-7); Chrysler (El.) Shade (326 IAC 6.5-6-8); Chrys. Fdy S. Tibbs (326 IAC 6.5-6-9); Community Hospital (326 IAC 6.5-6-10); Design Mix (326 IAC 6.5-6-11); Farm Bureau (Fert.) (326 IAC 6.5-6-12); FMC Bearing (326 IAC 6.5-6-13); FMC Chain (326 IAC 6.5-6-14); Fort Benjamin Harrison (326 IAC 6.5-6-16); Glass Containers (326 IAC 6.5-6-17); Indep. Concrete Pipe (326 IAC 6.5-6-19); Indpls. Rubber Co. (326 IAC 6.5-6-20); Ind. Asph. Pav. Co. (326 IAC 6.5-6-21); Nat'l R.R. (Amtrak) (326 IAC 6.5-6-24); Praxair (326 IAC 6.5-6-27); RCA (326 IAC 6.5-6-29); Refined Metals (326 IAC 6.5-6-30); Richardson Co. (326 IAC 6.5-6-32); and Stokely Van Camp (326 IAC 6.5-6-36).

The numerical PM10 emission limits for seven facilities in Marion County are unchanged from the previously approved SIP. Their entries in 326 IAC 6.5-6 were only edited for format consistency or name changes. The seven facilities are Allison Transmission (326 IAC 6.5-6-2); Bunge North America (East), Inc., formerly Central Soya (326 IAC 6.5-6-5); Indiana Veneers Corporation (326 IAC 6.5-6-22); Quemetco, Inc. (RSR Corporation) (326 IAC 6.5-6-28); Rolls-Royce Corporation (326 IAC 6.5-6-33); St. Vincent's Hospital and Health Care Service, formerly St. Vincent's Hospital (326 IAC 6.5-6-34), and Belmont Waste Water Sludge Incinerator, formerly Sludge Incinerator (326 IAC 6.5-6-35).

The entry for Asphalt Materials, Inc., formerly Asph. Mat. & Const., Inc. (326 IAC 6.5-6-3), has been updated. The PM10 emission limits formerly listed for the Oxid. Tank are now listed for the Asphalt Blowing Stills. The numerical limits have not changed.

The PM10 emission limits for Citizens Thermal Energy C.C. Perry K, formerly IPL (326 IAC 6.5-6-23), have not changed. A new rule section, 326 IAC 6.5-6-23.1, has been added for Indianapolis Power and Light Company (IPL) Harding Street Station. This facility was formerly known as IPL Stout. The emission limits for IPL Stout were previously included with the limits for IPL Perry K, now known as Citizens Thermal Energy C.C. Perry K (326 IAC 6.5-6-23). The PM10 SIP emission limits for Indianapolis Power and Light Company (IPL) Harding Street Station, formerly IPL Stout, have not changed.

The new rule removes individual unit emission limits for three facilities in Marion County. For Automotive Components Holdings, LLC-Indianapolis Plant, formerly Ford Motor Co. (326 IAC 6.5-6-15), the entry for Boiler 1 was removed. This unit is no longer operating. For Cargill, Inc., formerly Cargill Dry Corn Ingredients, Inc., formerly Illinois Cereal Mills, Incorporated, (326 IAC 6.5-6-18), ten emission units have been removed from the rule, due to process shutdowns. No other emission limits at the facility have changed. For National Starch and Chemical Company, formerly National Starch (326 IAC 6.5-6-25), the entry for Boiler 4 has been removed, because the boiler is no longer operating. No other PM10 emission limits at the facility have changed.

For International Truck and Engine Corporation & Indianapolis Casting Corporation, formerly Navistar International, (326 IAC 6.5-6-26), the entry for the Phase 3 Baghouse has been clarified to apply to the Phase 3 North and South Baghouses. Indiana stated that the baghouses vent through three stacks of the same height, very near each other. The emission limit, which applies to the baghouses as a whole, has not changed. This change is not expected to impact the PM10 concentrations in the vicinity of the facility. See Section V for a discussion of the State's analysis.

For Vertellus Agriculture and Nutrition Specialties, LLC (Vertellus), formerly Reilly Industries, Inc. (326 IAC 6.5-6-31), Indiana has stated that the correct PM10 emission limits for the 186N and 2724W units were mistakenly removed during a previous rule revision (approved by EPA at 69 FR 5036, February 3, 2004). The limits for the 2724W unit are reinstated in the revised rule at 4.0 tpy and 0.15 lb/MMBtu. The revised rule combines the reinstated annual limit for the 186N unit (0.9 tpy) with the unchanged annual limits for the 2722W and 2726S units (3.5 and 7.8 tpy, respectively) into one 12.2 tpy shared limit. This shared limit is equivalent to the sum of the three sources' previous individual tons per year limits. With this change, the 186N unit increases its fuel limit slightly, from 0.011 lb/MMBtu to 0.15 lb/MMBtu. The fuel limits for the other two sources are unchanged.

Also in the revised rule for Vertellus, Unit 722804 is no longer restricted to only burning natural gas, but its limits of 0.2 tpy and 0.011 lb/MMBtu are not changed. The emission limits for Unit 732714 have been decreased from 7.5 tpy to 2.7 tpy and from 0.15 lb/MMBtu to 0.011 lb/MMBtu. In addition, the 112E boiler, listed in previous versions of the PM10 SIP at 0.5 tpy and 0.15 lb/MMBtu, is no longer listed in 326 IAC 6.5-6-31. It is a waste heat boiler which performs no combustion and has no PM10 emissions of its own. Indiana performed dispersion modeling to show that the revised emission limits at Vertellus would lead to lower impacts on air quality compared to the previous emission limits. See Section V for a discussion of the State's modeling analysis.

f. St. Joseph County

There were twelve facilities listed in the previously approved SIP for St. Joseph County whose entries have been removed from 326 IAC 6.5-7, due to company shutdowns or the removal of all PM10 emitting units. The twelve facilities are: Allied Signal Aerospace (326 IAC 6.5-7-2); AM General (326 IAC 6.5-7-3); ARCO Engg. Const. Corporation (326 IAC 6.5-7-4); Asphalt Engineers (326 IAC 6.5-7-5); I & M-Twin Branch (326 IAC 6.5-7-7); Mishawaka Brass (326 IAC 6.5-7-8); Northern Indiana Children's Hospital (326 IAC 6.5-7-9); Reliance Electric-Dodge (326 IAC 6.5-7-12); Uniroyal (326 IAC 6.5-7-15); Volney Felt Mills (326 IAC 6.5-7-17); Wheelabrator Frye (326 IAC 6.5-7-19), and White Farm Equipment Company (326 IAC 6.5-7-20).

The numerical PM10 emission limits for three facilities in St. Joseph County are unchanged from the previously approved SIP. Their entries in 326 IAC 6.5-7 were only edited for format consistency or name changes. The three facilities are: Bosch Braking Systems Corporation (326 IAC 6.5-7-6); Holy Cross Services Corporation (Saint Mary's Campus) (326 IAC 6.5-7-13, with recent revisions approved by EPA on July 30, 2007, at 72 FR 41450); and the University of Notre Dame du Lac (326 IAC 6.5-7-16).

The new rule removes individual unit emission limits for two facilities in St. Joseph County. For RACO-Hubbell Electric Products, formerly RACO (326 IAC 6.5-7-10), the entry for oil-fired boiler nos. 1 and 2 have been removed. These boilers no longer operate. The remaining PM10 emission limits for this facility are unchanged. For Accucast Technology, LLC, formerly Sibley Machine & Foundry (326 IAC 6.5-7-14), the entries for the Cupola and the Tumble Blast have been removed. These units are no longer operating. The remaining PM10 emission limits have not changed. In the final revised rule, Accucast's PM10 emission limits were inadvertently given with units of pounds per million British Thermal Units, which is incorrect. The emission limits should be in grains per dry standard cubic foot. A correction notice was published in the Indiana Register on February 5, 2008, to correct this error.

For Reith Riley Construction Company, Inc. (326 IAC 6.5-7-11), one Rotary Dryer with limits of 11.10 tpy is no longer operating and has been removed from the rule. The other unit, a Rotary Dryer with limits of 1.70 tpy and 0.052 gr/dscf, has been replaced by a Drum Mixer/Burner, with limits of 78.5 tpy and 0.03 gr/dscf. The PM10 limits for the Rotary Dryer at Walsh & Kelly, Inc. (326 IAC 6.5-7-18) have been increased from 20.48 tpy to 53.22 tpy. Indiana performed dispersion modeling to show that these emission limit increases would be protective of the PM10 NAAQS. See Section V for a discussion of the State's modeling analysis.

g. Vanderburgh County

The revised rule no longer contains 6.5-8-1(b), which provided that “compliance with the tons per year limit shall be acceptable if within five percent (5%) of the established tons per year emission limit.” The removal of this provision strengthens the SIP.

There were ten facilities listed in the previously approved SIP for Vanderburgh County whose entries have been removed from 326 IAC 6.5-8, due to company shutdowns or the removal of all PM10-emitting units. The ten facilities are: Bernadin (326 IAC 6.5-8-2); Craddock Finishing (326 IAC 6.5-8-3); Evv. State Hospital (326 IAC 6.5-8-4); Evansville Veneer and Lumber (326 IAC 6.5-8-5); General Foods (326 IAC 6.5-8-6); Inland Container (326 IAC 6.5-8-7); International Steel (326 IAC 6.5-8-8); Mead Johnson (326 IAC 6.5-8-9); National of Evansville (326 IAC 6.5-8-10); and Whirlpool—Morgan Avenue (326 IAC 6.5-8-15).

The numerical PM10 emission limits for two facilities in Vanderburgh County are unchanged from the previously approved SIP. Their entries in 326 IAC 6.5-8 were only edited for format consistency or name changes. The two facilities are: Land O'Lakes Purina Feed LLC, formerly Purina Mills, Inc. (326 IAC 6.5-8-12) and Southern Indiana Gas and Electric Company, Broadway Avenue Generating Station, formerly SIGECO (326 IAC 6.5-8-13).

The new rule reduces or removes individual unit emission limits for two facilities in Vanderburgh County. For Nunn Milling Company, Inc. (326 IAC 6.5-8-11), the entries and emission limits for seven units have been removed due to process shutdowns. Only the hammer mill remains in the SIP rule, with unchanged PM10 emission limits. For Whirlpool Corporation Highway 41 North (326 IAC 6.5-8-14), boiler no. 2, formerly coal-fired, is now required to use natural gas only, and the PM10 emission limits for boiler no. 2 have been removed from the rule. This is consistent with Indiana's practice for other units in Indiana's previous natural gas rule, approved by EPA on February 3, 2004, at 69 FR 5036. Boiler no. 3, formerly coal-fired, and boiler no. 5, formerly oil-fired, are now each limited to natural gas with #2 fuel oil backup. Their PM10 emission limits are unchanged from the previous SIP. The entry for boiler no. 4 has been removed, as this unit is no longer operating.

h. Vigo County

The revised rule no longer contains 6.5-9-1(b), which provided that “compliance with the tons per year limit shall be acceptable if within five percent (5%) of the established tons per year emission limit.” The removal of this provision strengthens the SIP.

There were twelve facilities listed in the previously approved SIP for Vigo County whose entries have been removed from 326 IAC 6.5-9, due to company shutdowns or the removal of all PM10 emitting units. The twelve facilities are: Alcan (326 IAC 6.5-9-2); Columbian Home Products (326 IAC 6.5-9-3); Gartland Foundry (326 IAC 6.5-9-4); Indiana Gas and Chemical (326 IAC 6.5-9-6); ISU (326 IAC 6.5-9-7); J.I. Case (326 IAC 6.5-9-9); Rose Hulman (326 IAC 6.5-9-12); Terre Haute Concrete (326 IAC 6.5-9-14); Terre Haute Malleable (326 IAC 6.5-9-16); United States Penitentiary (326 IAC 6.5-9-18); Wabash Fibre Box (326 IAC 6.5-9-19); and Wabash Valley Asphalt (326 IAC 6.5-9-20).

The numerical PM10 emission limits for two facilities in Vigo County are unchanged from the previously approved SIP. Their entries in 326 IAC 6.5-9 were only edited for format consistency or name changes. The two facilities are S&G Excavating, Inc., formerly Martin Marietta (326 IAC 6.5-9-10) and Ulrich Chemical, Inc. (326 IAC 6.5-9-17).

The new rule for Terre Haute Grain (326 IAC 6.5-9-15) in Vigo County does not change any PM10 emission limits. However, the revised rule adds a 1.7 tpy limit for drying and a 16.0 tpy limit for handling. These emission units were previously listed in the Indiana PM10 SIP at 326 IAC 6.5-9-5, in the entry for Graham Grain. The Graham Grain facility has not moved or changed, but its PM10 emission limits have been included in 326 IAC 6.5-9-15. The separate listing at 326 IAC 6.5-9-5 for Graham Grain has been removed from the SIP.

The new rule reduces or removes individual unit emission limits for two facilities in Vigo County. For International Paper Company (326 IAC 6.5-9-8), the entry for the no. 5 boiler has been removed, because the boiler is no longer operating. The PM10 limits for the remaining units at this facility are unchanged. For Sisters of Providence (326 IAC 6.5-9-13), the no. 2 and 3 boilers are limited to natural gas with fuel oil backup. The tons-per-year limit for these boilers has been removed, but the 20.52 pounds-per-hour (lb/hr) limit for these boilers, which was equivalent to the former tons-per-year limit, has been retained. A limit of 0.341 lb/MMBtu has been added for the no. 2 and 3 boilers. The entry for the nos. 5, 7, and 8 boilers has been removed. These units are no longer operating.

The PM10 emission limits for Duke Energy Indiana, Inc.—Wabash River Generating Station, formerly PSI (326 IAC 6.5-9-11), have not changed, but the limits apply to fewer units than previously. The limits used to cover Units 1-6, but in the revised rule, the same limits cover only Units 2-6. Unit 1 has not operated since 1994. Indiana has stated that while the current annual emission limit, 4102.3 tpy, was based upon six operating units and should be revised in a future rulemaking, the total maximum possible emissions from the five remaining units, at their full 0.1338 lb/MMBtu emission limits, would be 4017 tpy. Therefore, removing the reference to Unit 1 does not result in an increase in allowable PM10 emissions.

i. Wayne County

There were six facilities listed in the previously approved SIP for Wayne County whose entries have been removed from 326 IAC 6.5-10, due to company shutdowns or the removal of all PM10 emitting units. The six facilities are: Dana Perfect Circle Richmond (326 IAC 6.5-10-7); Design & Manufacturing (326 IAC 6.5-10-8); Farmer's Grain (326 IAC 6.5-10-10); Schrock Cabinet Company (326 IAC 6.5-10-17); Wallace Metals (326 IAC 6.5-10-18); and Wayne County Farm Bureau (326 IAC 6.5-10-19).

The numerical PM10 emission limits for seven facilities in Wayne County are unchanged from the previously approved SIP. Their entries in 326 IAC 6.5-10 were only edited for format consistency or name changes. The seven facilities are: Barrett Paving Materials, Inc. (326 IAC 6.5-10-2); Autocar LLC, formerly Dana Perfect Circle-Hagerstown (326 IAC 6.5-10-6); Earlham College (326 IAC 6.5-10-9); Joseph H. Hill Co. (326 IAC 6.5-10-12); Land O'Lakes Purina Feed LLC, formerly Purina Mills, Inc. (326 IAC 6.5-10-13); Richmond Power & Light—Whitewater Valley Generating Station (326 IAC 6.5-10-15); and Richmond State Hospital (326 IAC 6.5-10-16).

The new rule reduces or removes individual unit emission limits for four facilities in Wayne County. Previously, there were two rules for Belden Wire and Cable Company, 326 IAC 6.5-10-3 (office) and 326 IAC 6.5-10-4 (plant). The revised PM10 SIP gives a single entry for Belden Wire and Cable Company at 326 IAC 6.5-10-3. There is no longer a rule listing numbered 326 IAC 6.5-10-4. The revised rule for Belden Wire and Cable Company retains the emission limits for the plastic compounding, rubber mixing, and pneumatic processes from the former rule 326 IAC 6.5-10-4. The entry and emission limits for the oil boiler, originally in 326 IAC 6.5-10-3, have been removed, because the boiler is no longer operating. For Milestone Contractors LP (Cambridge City), formerly Cambridge City Milestone Contractors (326 IAC 6.5-10-5), the previous listing for the rotary dryer now applies to the drum dryer. The dryer's emission limits have decreased from 67.4 tpy to 45.74 tpy and from 0.218 grains per dry standard cubic foot (gr/dscf) to 0.04 gr/dscf. For Johns Manville International, Inc., formerly Johns Manville Corporation (326 IAC 6.5-10-11), two units are limited by the revised rule to burn natural gas only, and their numerical emission limits have been removed from the SIP. This is consistent with Indiana's practice for other natural gas units. Four other units and their emission limits have been entirely removed from the rule. These units are no longer operating. The PM10 emission limits for the remaining two units in the SIP, line 2 and line 3 forming and collection, have not changed. For Milestone Contractors Richmond, formerly Richmond Milestone Contractors (326 IAC 6.5-10-14), the listing for the rotary dryer now applies to the counter flow drum mixer, and the emission limits have been reduced from 50.80 tpy to 46.76 tpy, and from 0.158 gr/dscf to 0.04 gr/dscf.

IV. What Has Indiana Revised in 326 IAC 6.8?

326 IAC 6.8 covers PM10 emissions at facilities in Lake County. Rule 326 IAC 6.8-1, General Provisions, has been updated to match the current rule structure of 326 IAC 6.8. Rule 326 IAC 6.8-2 contains updated and revised facility-specific PM10 emission limits. The former rule 326 IAC 6.8-3, Lake County: Opacity Limits; Exceptions to 326 IAC 5-1-2, has been repealed. Its provisions have been placed in the appropriate facility-specific sections of 326 IAC 6.8-2. There were minor editorial changes to Rule 326 IAC 6.8-4, Lake County: Opacity Limits; Test Methods.

The former rule 326 IAC 6.8-5-1, Lake County: Opacity Continuous Emissions Monitors, has been repealed. Its provisions have been placed in 326 IAC 6.8-2-1(e), and in the appropriate facility-specific sections of 326 IAC 6.8-2. The former rule 326 IAC 6.8-6, Lake County: Combustion Sources; Natural Gas, has been repealed. The sources named in the former sections 326 IAC 6.8-6-2 through 326 IAC 6.8-6-20, have been limited in the facility-specific sections of the revised rule 326 IAC 6.8-2 to natural gas combustion only, without numerical PM10 emission limits.

The former rule 326 IAC 6.8-7, Lake County: Site-Specific Control Requirements, has been repealed, because most of its provisions were outdated, referring to scheduled control device installations or industrial unit shutdowns which have already occurred. The provisions which still apply to Lake County sources have been added to the appropriate facility-specific sections of 326 IAC 6.8-2. Rule 326 IAC 6.8-8-1, Lake County: Continuous Compliance Plan, has been updated to reflect the current list of applicable facilities.

The remainder of 326 IAC 6.8-8 is unchanged. For Rule 326 IAC 6.8-9, Lake County: PM10 Coke Battery Emission Requirements, sections 6.8-9-1 and 6.8-9-2 are unchanged. Section 6.8-9-3 has been amended to remove a reference to Inland Steel (now known as Mittal Steel—Indiana Harbor East Inc.). The requirements referring to this facility have been incorporated into the facility's entry at 326 IAC 6.8-2-17. Rule 326 IAC 6.8-10-1, Lake County: Fugitive Particulate Matter, has been updated to reflect the current list of applicable facilities. The remainder of 326 IAC 6.8-10 is unchanged. Rule 326 IAC 6.8-11, Lake County: Particulate Matter Contingency Measures, is unchanged.

Regarding the changes to 326 IAC 6.8-2, there were six facilities listed in the previously approved SIP for Lake County that have been removed from 326 IAC 6.8-2, due to company shutdowns or the removal of all PM10-emitting units previously regulated under the PM10 SIP. The six facilities are: American Steel Foundries—East Chicago (326 IAC 6.8-2-3); Associated Box (326 IAC 6.8-2-5); General Refractory (326 IAC 6.8-2-10); SCA Tissue North America LLC, formerly Georgia Pacific (326 IAC 6.8-2-11); Globe Industries (326 IAC 6.8-2-12); and Marport Smelting (326 IAC 6.8-2-23).

The numerical PM10 emission limits for fifteen facilities in Lake County are unchanged from the previously approved SIP. Their entries in 326 IAC 6.8-2 were only edited for format consistency or name changes. The fifteen facilities are: Bucko Construction Company, Inc. (326 IAC 6.8-2-7); W.R. Grace and Co.—Conn., formerly E. I. Dupont (326 IAC 6.8-2-9); Hammond Group, Inc.—Halstab Division (326 IAC 6.8-2-14); Jupiter Aluminum Corporation (326 IAC 6.8-2-18); Carmeuse Lime Inc., formerly Marblehead Lime Company (326 IAC 6.8-2-22); Methodist Hospital Inc. (326 IAC 6.8-2-24); National Recovery Systems (326 IAC 6.8-2-25); NIPSCo—Dean H. Mitchell Station (326 IAC 6.8-2-26); Premiere Candy Company (326 IAC 6.8-2-28); Reed Minerals—Plant #14 (326 IAC 6.8-2-29); Rhodia, Inc. (326 IAC 6.8-2-30); Smith Ready Mix, Inc. (326 IAC 6.8-2-32); State Line Energy, LLC (326 IAC 6.8-2-33); Huhtamaki Foodservice, Inc., formerly The Chinet Company (326 IAC 6.8-2-34); and Union Tank Car Company, Plant 1 (326 IAC 6.8-2-36).

The PM10 emission limits for U.S. Steel—Gary Works (326 IAC 6.8-2-38) have not changed. The opacity limits for U.S. Steel—Gary Works in 326 IAC 6.8 are also unchanged, but they have been relocated to 326 IAC 6.8-2-38(b). These facility-specific opacity limits take precedence over the limits in Indiana's opacity regulations at 326 IAC 5-1-2.

For Silgan Containers Manufacturing Corporation (326 IAC 6.8-2-31), the previous PM10 SIP contained an emission limit for a stack serving three incinerator units. The listing in 326 IAC 6.8-2-31 for that stack has been revised to apply to “Two (2) stacks serving an incinerator (1 unit),” with the previous PM10 emission limits of 0.007 lbs/MMBTU and 0.310 lbs/hr unchanged. However, according to IDEM, the company's October 2007 State-issued operating permit indicates that the single incinerator now vents to only one stack. The other PM10 emission limits for this facility are unchanged.

The new rule removes individual unit emission limits for eight facilities in Lake County. For Cargill, Inc., formerly Cerestar USA, Inc. (326 IAC 6.8-2-8), twenty-six PM10 emission limits have been removed, due to process shutdowns. The other PM10 emission limits for this facility are unchanged.

The limits for Hammond Group, Inc. (HGI)—Expander Division, formerly at 326 IAC 6.8-2-15, have been combined with that of Hammond Group, Inc. (HGI)—Halox Division, formerly at 326 IAC 6.8-2-13, resulting in the revised rule 326 IAC 6.8-2-13, now titled Hammond Group, Inc. (HGI) Halox Division, Lead Products Division, and Hammond Expander Division. The entry for the Expander Division Stack 1-S-54 has been removed because PM10 is no longer emitted from that stack. The other PM10 emission limits for the Halox Division and Expander Division of this facility are unchanged. The listing numbered 326 IAC 6.8-2-15 has been removed from the SIP.

For Mittal Steel—Indiana Harbor East Inc., formerly Inland Steel (326 IAC 6.8-2-17), previously listed PM10 emission limits have been removed for 15 units which are no longer operating. The PM10 emission limits for Blending system baghouse B have also been removed, because the baghouse was never constructed. The other PM10 emission limits for this facility are unchanged. The opacity limits for this facility in 326 IAC 6.8 are not changed, but they have been relocated to 326 IAC 6.8-2-17(b). These facility-specific opacity limits take precedence over the limits in Indiana's opacity regulations at 326 IAC 5-1-2.

For Dover Chemical Corporation—Hammond, formerly Keil Chemical—Division of Ferro Corporation (326 IAC 6.8-2-19), the PM10 emission limits for Pyro-chek 68PB1 of 0.052 lbs/ton and 0.030 lbs/hr and the PM10 limits for Pyro-chek 77PB2 of 0.122 lbs/ton and 0.040 lbs/hr have been removed because the units are no longer operating. The other PM10 emission limits for this facility are unchanged.

For Mittal Steel—Indiana Harbor West Inc., formerly LTV Steel Corporation (326 IAC 6.8-2-21), the PM10 limits for Utility Boiler number 3 and Utility boiler number 4 have been removed because the boilers are no longer operating. The previous PM10 limits were 0.066 lbs/MMBTU and 12.85 lbs/hr for each boiler. The other PM10 emission limits for this facility are unchanged. The opacity limits for this facility in 326 IAC 6.8 are not changed, but they have been relocated to 326 IAC 6.8-2-21(b). These facility-specific opacity limits take precedence over the limits in Indiana's opacity regulations at 326 IAC 5-1-2.

For Praxair Inc. (326 IAC 6.8-2-27), the PM10 emission limits of 42.5 lbs/ton and 0.340 lbs/hr for the cylinder paint spray booth, stack 033; the limits of 42.5 lbs/ton and 0.340 lbs/hr for the drum paint spray booth, stack 073; and the limits of 0.004 gr/dscf and 0.042 lbs/hr for the cylinder shotblaster number 2 baghouse, stack 030, have all been removed because the units are no longer operating. The other PM10 emission limits for this facility are unchanged.

For Conopco, Inc. d/b/a Unilever HPC USA, formerly listed as Unilever HPC USA (326 IAC 6.8-2-35), sixteen emission units have been removed from the rule because they are no longer operating. These removals lower the facility's total allowable PM10 emissions by approximately 25 pounds per hour. The other PM10 emission limits for this facility are unchanged.

For the United States Gypsum Company (326 IAC 6.8-2-37), the PM10 emission limits for the following have been removed, due to process shutdowns, for a total reduction of about 1.38 lb/hr: rail car unloading, stack J10; the Franklin fiber process, stack M6; wallboard end sawing, Stack B2; and the panel saw process. The other PM10 emission limits for this facility are unchanged.

At BP Products North America, Inc.—Whiting Refinery (BP) (326 IAC 6.8-2-6), many emission units currently burn natural gas or refinery gas. Several sources at BP were previously allowed to burn fuel oil, but are now limited to natural gas or refinery gas under the revised rule. In this rule, all gas-burning units are given revised emission limits that reflect the most current EPA PM10 emission factor for gas combustion provided in AP-42. Refinery gas is considered to have similar PM10 emissions to natural gas. The emission limits, 0.0075 lb/MMBtu, are higher than the previous gas combustion emission limits, which were 0.004 lb/MMBtu. The previous emission limits were also based on EPA emission factors, but they only included filterable PM10, which is emitted directly from the stacks as solid or liquid particulate matter. The newer factor includes both filterable PM10 and condensable PM10, which is emitted from the stacks as hot gases or vapor, and which later cools and condenses into aerosol droplets, also treated as PM10. The emission test methods for compliance determinations at BP are revised to require the measurement of both filterable and condensable particulate. The new limit better quantifies the total PM10 emitted from natural gas combustion.

Emission limits are also given in pounds per hour for most sources at BP; these are adjusted to account for the revised gas combustion emission estimates. Although the numerical limits have increased, the actual PM10 emissions at the gas combusting sources are not expected to change, because the units will still be using the same fuel as before. Actual PM10 emissions will decrease at those sources which were previously allowed to burn fuel oil but are now using only natural gas and refinery gas. Eleven units which have been shut down were removed from the rule. Overall, the allowable PM10 emissions at BP decrease by 477 tpy under the revised rule.

ASF—Keystone, Inc.—Hammond (ASF—Keystone), formerly American Steel Foundry—Hammond (326 IAC 6.8-2-4), no longer operates Tub Grinder number 3-0388, and its limits are removed from 326 IAC 6.8-2-4. Several spring grinder units at ASF—Keystone now vent to a control device with a single stack; therefore, their emission limits have been combined into a single emission limit for the stack.

For Resco Products, Inc., formerly Harbison Walker Refractories, Hammond Works (326 IAC 6.8-2-16), an emission limit of 0.0330 lb/ton and 0.460 lb/hr originally applied to two mixers venting to one stack (D-5). The two mixers now vent to separate stacks (D-5 and D-14), so the original limit was split into two separate limits of 0.0165 lb/ton and 0.230 lb/hr. The newly added limit for Resin-bonded materials handling, batching and pressing at Stack D-12A represents a combination of the former emission limits for the magnesite auxiliary milling system (Stack D-14), the magnesite smooth roll crusher system (D-15), and the specialty magnesite handling system (D-16). The new limit, which equals the sum of the three former limits, is 0.25 lb/ton and 0.93 lb/hr. The previous entry for Chrome Ore screening and milling, Stack D-12, with limits of 0.078 lb/ton and 1.24 lb/hr, has been removed from 326 IAC 6.8-2-16, because the process has been shut down. Overall, these changes represent an emissions decrease of 1.24 lb/hr.

LaSalle Steel Company (LaSalle Steel) (326 IAC 6.8-2-20) petitioned Indiana for higher emission limits on its shot blasting operation. LaSalle Steel was unable to comply with its PM10 SIP limits using its control device, a baghouse, installed in 1992. According to Indiana, the original 0.02 lb/hr emission limit should have been 0.02 grains per actual cubic foot (based on the baghouse manufacturer's guarantee). That rate corresponds to 2.57 lb/hr and 0.086 pounds per ton. Indiana revised LaSalle's shot blasting limits from 0.02 lb/hr to 2.57 lb/hr and 0.001 lb/ton to 0.086 lb/ton, which is more consistent with the equipment guarantee.

Indiana performed dispersion modeling to show that the emission limit changes at BP, ASF Keystone, Resco, and LaSalle Steel would still be protective of the PM10 NAAQS. See Section V for a discussion of the State's modeling analysis.

V. PM10 Modeling Analyses

To demonstrate that any increases in PM10 emission limits within 326 IAC 6.5 and 326 IAC 6.8 would still be protective of the PM10 NAAQS, Indiana performed dispersion modeling. Indiana used the AERMOD regulatory dispersion model, version 07026, to evaluate the impacts of the increased PM10 limits in the revised rules. Five years of representative local surface and upper air National Weather Service data were used in each AERMOD analysis. Indiana used the AERMET meteorological data processor, version 06341, a part of the AERMOD modeling system, to prepare the surface meteorological data and vertical profiles, using the seasonal surface characteristics at each surface meteorological data site. Indiana used the Building Profile Input Program (BPIP), version 04274, to prepare wind direction-specific building dimension data for each source. This program also calculates downwash inputs for the Plume Rise Model Enhancements (PRIME) algorithm in AERMOD. Receptors were placed along facility fencelines and in a grid pattern surrounding the source area, with grid receptors 100 meters apart, in accordance with EPA guidance. The AERMAP preprocessor, version 06341, a part of the AERMOD modeling system, was used to assign the elevations for all sources, buildings, and receptors from topographical data.

Because of their inherently low emissions, many natural gas sources do not have numerical emission limits in the revised PM10 rules. Nonetheless, current EPA emission factors were used to model the PM10 emissions from all modeled natural gas combustion units.

Background concentrations taken from local air quality monitoring data were added to the AERMOD results to account for the contribution from distant sources or very small local sources that are typically not explicitly included in the modeling analyses.

For some applications, Indiana performed preliminary screening modeling using the SCREEN3 model, which gives a conservative 1-hour average concentration for single sources. Conversion factors were used to estimate 24-hour and annual average concentration values from the SCREEN3 results.

a. Clark County

The revised rule for Kimball Office—Borden, formerly Kimball Case Goods (326 IAC 6.5-2-8), added a second boiler and slightly increased both boilers' listed MMBtu/hr ratings. Indiana ran the SCREEN3 screening model for the resulting 0.096 lb/hr increase in allowable PM10 emissions. The maximum SCREEN3 result was 0.36 micrograms per cubic meter (μg/m³) on a 24-hour average and 0.07 μg/m³ on an annual average. These levels are not generally considered likely to cause or significantly contribute to a modeled exceedance of the PM10 NAAQS of 150 μg/m³ (24-hour average) and 50 μg/m³ (annual average). We consider the Kimball Office-Borden rule revision to be approvable.

b. Dubois County

The revised rule changes the PM10 emission limits for sources at Jasper Seating Co., Inc., Plant No. 3 (326 IAC 6.5-4-3), and Jasper Chair Company, Inc. (326 IAC 6.5-4-15). Indiana ran SCREEN3 for the emission changes at these sources. The SCREEN3 results showed that the changes at Jasper Seating Co., Inc. had an impact of 1.7 μg/m³ on a 24-hour average and 0.3 μg/m³ on an annual average. Jasper Chair Company, Inc.'s emission changes had an impact of 0.27 μg/m³ on a 24-hour average and 0.05 μg/m³ on an annual average. PM10 concentration increases of this size are generally considered to be unlikely to cause or contribute to exceedances of the PM10 NAAQS.

Indiana also used the AERMOD model to evaluate Dubois County's full PM10 emissions. The AERMOD run included 23 Dubois County facilities. Surface meteorological data was taken from Evansville, Indiana and upper air data was taken from Peoria, Illinois, for the five-year period of 1988 to 1992. The high, second high 24-hour modeled concentration was 26.8 μg/m³, and with the background value of 50.7 μg/m³, the final result was 77.5 μg/m³, compared to the 24-hour NAAQS of 150 μg/m³. The maximum annual modeled concentration was 3.71 μg/m³, and with the annual background concentration of 26.0, the final result was 29.7 μg/m³, compared to the annual PM10 NAAQS of 50 μg/m³. Therefore, the PM10 NAAQS should be protected under the revised rule, and the revised PM10 emission limits are approvable.

c. Marion County

For International Truck and Engine Corporation & Indianapolis Casting Corporation, formerly Navistar International, (326 IAC 6.5-6-26), the rule was revised to reflect the fact that there are three exhaust stacks that vent the Phase 3 Baghouse emissions. The three stacks have the same heights, and are within 10 to 15 feet of each other. Since the vents are so close to each other and similar in size, EPA does not expect that a dispersion modeling analysis would show an appreciable difference between the results of modeling the full emissions from one stack (as the previous rule indicated) and the results of modeling one third of the full emissions from each of the three stacks (as the revised rule indicates). Therefore, EPA did not require Indiana to perform additional modeling for the revised rule for International Truck and Engine Corporation & Indianapolis Casting Corporation (326 IAC 6.5-6-26).

For the analysis of the emission limit changes at Vertellus, Indiana performed dispersion modeling for the facility's emission limit changes alone, to evaluate their impact. The AERMOD analysis used surface meteorological data from Indianapolis, Indiana, and upper air data from Dayton, Ohio, for the five-year period of 1988 to 1992. Indiana modeled the previous and revised PM10 limits separately for the Vertellus units affected by the revised rule. The high, second high modeled 24-hour average PM10 concentration decreased from 21.1 μg/m³ to 14.5 μg/m³ under the rule revision. The maximum modeled annual average PM10 concentration decreased from 1.07 μg/m³ to 0.96 μg/m³.

Indiana also noted that the closed Chrysler Foundry, formerly listed at 326 IAC 6.5-6-9, was immediately north of Vertellus. Its closure reduces the allowable PM10 emissions in the Marion County SIP by more than 160 tpy. Indiana used AERMOD to evaluate the impact of the Chrysler Foundry shutdowns near Vertellus. At Vertellus' peak receptor locations, the Chrysler Foundry shutdowns would provide a 33.4 μg/m³ 24-hour average reduction and a 2.8 μg/m³ annual average reduction. Chrysler Foundry's modeled reductions are greater than 33.4 μg/m³ at several other nearby receptor locations, and modeled reductions from Chrysler Foundry that are comparable to Vertellus' modeled impacts occur over a large area. EPA accepts Indiana's demonstration that the Chrysler Foundry closure helps offset the emission changes at Vertellus.

d. St. Joseph County

Indiana used AERMOD to evaluate the emission limit changes at the Reith-Riley and Walsh & Kelly facilities. A total of 55 sources in St. Joseph County were included in the analysis. The analysis used surface meteorological data from South Bend, Indiana and upper air data from Peoria, Illinois for the five-year period of 1988 to 1992. Receptors were placed in grids centered around the Reith-Riley and Walsh & Kelly facilities. The maximum high, second high 24-hour concentration, which occurred near Walsh & Kelly, was 19.0 μg/m³. With a background concentration of 40.3 μg/m³, the final result was 59.3 μg/m³, compared to the 24-hour NAAQS of 150 μg/m³. The maximum annual PM10 concentration, which also occurred near Walsh & Kelly, was 1.8 μg/m³. With a background concentration of 23.0 μg/m³, the final result was 24.8 μg/m³, compared to the annual PM10 NAAQS of 50 μg/m3. Therefore, the PM10 NAAQS should be protected under the revised rule, and the revised PM10 emission limits are approvable.

e. Lake County

Since only four facilities had increasing emission limits, Indiana focused its modeling analysis on those sources. EPA modeling guidance does not require an individual impact analysis for sources with no SIP emission limit changes, or with emission limit decreases only. First, Indiana modeled the increasing and decreasing units at BP, to gauge the impact of the emission limit changes. Generally, a 24-hour average PM10 concentration below 5 μg/m³ or an annual average PM10 concentration below 1 μg/m³, would not be considered to make a significant contribution to overall PM10 concentrations. The maximum 24-hour impact from the BP changes was 0.48 μg/m³, and the maximum annual impact from the BP changes was 0.0 μg/m³.

Indiana then separately modeled each of the four Lake County facilities' entire PM10 emissions, with receptors placed in each facility's region of influence. The maximum 24-hour impact from BP was 5.3 μg/m³, and the maximum annual impact was 0.94 μg/m³. The maximum 24-hour impact from ASF—Keystone was 58.4 μg/m³, and the maximum annual impact was 11.9 μg/m³. The maximum 24-hour impact from Resco was 50.8 μg/m³, and the maximum annual impact was 9.7 μg/m³. The maximum 24-hour impact from LaSalle Steel was 26.2 μg/m³, and the maximum annual impact was 6.2 μg/m³.

Finally, Indiana ran the AERMOD model with all Lake County PM10 sources included. The receptor grid for this analysis covered the areas which were influenced by BP, ASF—Keystone, Resco, and LaSalle Steel. Background concentrations were added to the AERMOD results, and the sums were compared to the 24-hour PM10 NAAQS of 150 μg/m³ and the annual PM10 NAAQS of 50 μg/m³. The maximum 24-hour concentration near BP from all sources, plus background, was 145.7 μg/m³, and the annual concentration near BP, including background, was 46.8 μg/m³. These concentrations were also the overall maximum concentrations in the PM10 modeled analysis for the Lake County facilities. The maximum 24-hour concentration near ASF—Keystone from all sources, plus background, was 101.4 μg/m³, and the annual concentration near ASF—Keystone, including background, was 39.9 μg/m³. The maximum 24-hour concentration near Resco from all sources, plus background, was 84.8 μg/m³, and the annual concentration near Resco, including background, was 40.3 μg/m³. The maximum 24-hour concentration near LaSalle Steel from all sources, plus background, was 76.5 μg/m³, and the annual concentration near LaSalle Steel, including background, was 35.1 μg/m³. The analysis showed that the revised emission limits at BP, ASF—Keystone, Resco, and LaSalle Steel should be protective of the PM10 NAAQS in Lake County.

VI. What Action Is EPA Taking Today?

EPA is proposing to approve Indiana's February 21, 2008, PM10 SIP revision request. This submittal includes revisions to 326 IAC 6.5-2, 326 IAC 6.5-3, 326 IAC 6.5-4, 326 IAC 6.5-5, 326 IAC 6.5-6, 326 IAC 6.5-7, 326 IAC 6.5-8, 326 IAC 6.5-9, and 326 IAC 6.5-10, which EPA is proposing to approve. The submittal also includes revisions to 326 IAC 6.8-1-1, 326 IAC 6.8-1-5, 326 IAC 6.8-1-7, 326 IAC 6.8-2, 326 IAC 6.8-4-1, 326 IAC 6.8-8-1, 326 IAC 6.8-9-3, and 326 IAC 6.8-10-1, which EPA is proposing to approve. The submittal reflects the repeal of 326 IAC 6.8-3, 326 IAC 6.8-5, 326 IAC 6.8-6, and 326 IAC 6.8-7, which EPA is proposing to approve.

The following portions of 326 IAC 6.5 and 6.8 were unchanged by the February 20, 2008, Indiana Register publication, and therefore they remain a part of the approved Indiana PM10 SIP: 326 IAC 6.5-1, 326 IAC 6.8-1-1.5, 326 IAC 6.8-1-2, 326 IAC 6.8-1-3, 326 IAC 6.8-1-4, 326 IAC 6.8-1-6, 326 IAC 6.8-8-2 through 326 IAC 6.8-8-8, 326 IAC 6.8-9-1, 326 IAC 6.8-9-2, 326 IAC 6.8-10-2, 326 IAC 6.8-10-3, 326 IAC 6.8-10-4, and 326 IAC 6.8-11.

As noted above, EPA is taking comment on this proposed action. All adverse comments submitted during the comment period will be responded to in EPA's final action on this SIP revision. If comments are received that preclude EPA from rulemaking on portions of the state submittal, EPA will proceed with rulemaking on other portions of the submittal that are not the subject of these comments.

VII. Statutory and Executive Order Reviews

Executive Order 12866: Regulatory Planning and Review

Under Executive Order 12866 (58 FR 51735, September 30, 1993), this action is not a “significant regulatory action” and therefore is not subject to review by the Office of Management and Budget.

Paperwork Reduction Act

This proposed rule does not impose an information collection burden under the provisions of the Paperwork Reduction Act of 1995 (44 U.S.C. 3501 et seq.).

Regulatory Flexibility Act

This proposed action merely proposes to approve state law as meeting Federal requirements and imposes no additional requirements beyond those imposed by state law. Accordingly, the Administrator certifies that this proposed rule will not have a significant economic impact on a substantial number of small entities under the Regulatory Flexibility Act (5 U.S.C. 601 et seq.).

Unfunded Mandates Reform Act

Because this rule proposes to approve pre-existing requirements under state law and does not impose any additional enforceable duty beyond that required by state law, it does not contain any unfunded mandate or significantly or uniquely affect small governments, as described in the Unfunded Mandates Reform Act of 1995 (Pub. L. 104-4).

Executive Order 13132: Federalism

This action also does not have Federalism implications because it does not have substantial direct effects on the states, on the relationship between the national government and the states, or on the distribution of power and responsibilities among the various levels of government, as specified in Executive Order 13132 (64 FR 43255, August 10, 1999). This action merely proposes to approve a state rule implementing a federal standard, and does not alter the relationship or the distribution of power and responsibilities established in the Clean Air Act.

Executive Order 13175: Consultation and Coordination With Indian Tribal Governments

This proposed rule also does not have tribal implications because it will not have a substantial direct effect on one or more Indian tribes, on the relationship between the Federal Government and Indian tribes, or on the distribution of power and responsibilities between the Federal Government and Indian tribes, as specified by Executive Order 13175 (65 FR 67249, November 9, 2000).

Executive Order 13045: Protection of Children From Environmental Health and Safety Risks

This proposed rule also is not subject to Executive Order 13045 “Protection of Children from Environmental Health Risks and Safety Risks” (62 FR 19885, April 23, 1997), because it proposes approval of a state rule implementing a Federal Standard.

Executive Order 13211: Actions That Significantly Affect Energy Supply, Distribution, or Use

Because it is not a “significant regulatory action” under Executive Order 12866 or a “significant regulatory action,” this action is also not subject to Executive Order 13211, “Actions Concerning Regulations That Significantly Affect Energy Supply, Distribution, or Use” (66 FR 28355, May 22, 2001).

National Technology Transfer Advancement Act

Section 12(d) of the National Technology Transfer and Advancement Act of 1995 (NTTAA), 15 U.S.C. 272, requires Federal agencies to use technical standards that are developed or adopted by voluntary consensus to carry out policy objectives, so long as such standards are not inconsistent with applicable law or otherwise impractical. In reviewing SIP submissions, EPA's role is to approve state choices, provided that they meet the criteria of the Clean Air Act. Absent a prior existing requirement for the state to use voluntary consensus standards, EPA has no authority to disapprove a SIP submission for failure to use such standards, and it would thus be inconsistent with applicable law for EPA to use voluntary consensus standards in place of a program submission that otherwise satisfies the provisions of the Clean Air Act. Therefore, the requirements of section 12(d) of the NTTAA do not apply.

List of Subjects in 40 CFR Part 52

Environmental protection, Air pollution control, Intergovernmental relations, Particulate matter.

Dated: March 7, 2008.
Bharat Mathur,
Acting Regional Administrator, Region 5.

[FR Doc. E8-5053 Filed 3-13-08; 8:45 am]

BILLING CODE 6560-50-P